DEPARTMENT OF TRANSPORTATION

[Docket Number DOT-OST-2014-0112]

Agency Information Collection Activity; Notice of Request for Approval To Collect New Information: Voluntary Near Miss Reporting in Oil and Gas Operations on the Outer Continental Shelf

AGENCY: Bureau of Transportation Statistics (BTS), Office of the Assistant Secretary for Research and Technology (OST-R), U.S. Department of Transportation.

ACTION: Notice and request for comments.

SUMMARY: In accordance with the requirements of section 3506(c)(2)(A) of the Paperwork Reduction Act of 1995, this notice announces the intention of the Bureau of Transportation Statistics to request the Office of Management and Budget (OMB) to approve the following information collection: Voluntary Near Miss Reporting in Oil and Gas Operations on the Outer Continental Shelf (OCS). This data collection effort supports a multi-year program focused on improving safety in the OCS by collecting and analyzing data and information on near misses and other unsafe occurrences in all oil and gas operations on the OCS. In August 2013, the Bureau of Safety and Environmental Enforcement (BSEE) and BTS signed an Interagency Agreement (IAA) to develop and implement a voluntary program for confidential reporting of `near misses' occurring on the OCS. BTS will analyze and aggregate information provided under this program and publish reports that will provide BSEE, the industry and all OCS stakeholders with essential information about accident precursors and other hazards associated with OCS oil and gas operations so that all stakeholders can use that information to reduce safety and environmental hazards and continue building a more robust OCS safety culture. This information collection is necessary to aid BSEE, the oil and gas industry and other stakeholders in identifying root causes of potentially unsafe events.

DATES: Written comments should be submitted by September 2, 2014.

ADDRESSES: To ensure that your comments are not entered more than once into the docket, submit comments by only one of the following methods:

• Federal eRulemaking Portal: Go to http://www.regulations.gov and follow the instructions for sending your comments electronically. Docket Number: DOT-OST-2014-0112.

• Mail: Docket Services, U.S. Department of Transportation, 1200 New Jersey Avenue SE., West Building, Ground Floor, Room W12-140, Washington, DC 20590-0001.

• Hand Delivery: Deliver to mail address above between 9 a.m. and 5 p.m. EST, Monday through Friday, except Federal holidays.

• Fax: (202) 493-2251.

Identify all transmission with “Docket Number DOT-OST-2014-0112” at the beginning of each page of the document.

Instructions: All comments must include the agency name and docket number for this notice. Paper comments should be submitted in duplicate. The DMF is open for examination and copying, at the above address from 9 a.m. to 5 p.m. EST, Monday through Friday, except Federal holidays. If you wish to receive confirmation of receipt of your written comments, please include a self-addressed, stamped postcard with the following statement: “Comments on Docket Number DOT-OST-2014-0112.” The Docket Clerk will date stamp the postcard prior to returning it to you via the U.S. mail. Please note that all comments received, including any personal information, will be posted and will be publicly viewable, without change, at www.regulations.gov. You may review DOT's complete Privacy Act Statement in the Federal Register published on April 11, 2000 (Volume 65, Number 70; pages 19477-78) or you may review the Privacy Act Statement at www.regulations.gov.

FOR FURTHER INFORMATION CONTACT: Demetra V. Collia, Bureau of Transportation Statistics, Office of the Assistant Secretary for Research and Technology, U.S. Department of Transportation, Office of Advanced Studies, RTS-31, E324-302, 1200 New Jersey Avenue SE., Washington, DC 20590-0001; Phone No. (202) 366-1610; Fax No. (202) 366-3383; email: demetra.collia@dot.gov. Office hours are from 8:30 a.m. to 5 p.m., EST, Monday through Friday, except Federal holidays.

Data Confidentiality Provisions: The confidentiality of near miss data submitted to BTS is protected under the BTS confidentiality statute (49 U.S.C. Sec. 6307) and the Confidential Information Protection and Statistical Efficiency Act (CIPSEA) of 2002 (Pub. L. 107-347, Title V). In accordance with these confidentiality statutes, only statistical and non-identifying data will be made publicly available by BTS through its reports. BTS will not release to BSEE or any other public or private entity any information that might reveal the identity of individuals or organizations mentioned in near miss reports without explicit consent of the respondent and any other affected entities.

SUPPLEMENTARY INFORMATION:

I. The Data Collection

The Paperwork Reduction Act of 1995 (44 U.S.C. chapter 35; as amended) and 5 CFR part 1320 require each Federal agency to obtain OMB approval to initiate an information collection activity. BTS is seeking OMB approval for the following BTS information collection activity:

Title: Voluntary Near Miss Reporting in Oil and Gas Operations on the Outer Continental Shelf

OMB Control Number: TBD.

Type of Review: Approval of data collection.

Respondents: Employees working in the oil and gas industry on the OCS.

Number of Potential Responses: Based on near miss reporting trends in other industries, BTS expects to receive no more than two responses per calendar day during the first three years of the program (approximately 730 responses per year).

Estimated Time per Response: not to exceed 60 minutes (this includes estimated time for a follow up interview, if needed.)

Frequency: Intermittent for three years. (Reports are submitted when there is a qualifying event, i.e., when a near miss occurs in oil and gas operations on the OCS.)

Total Annual Burden: 730 hours.

Abstract: Collecting transportation safety data, including data on precursors to adverse events, is an important component of BTS's responsibility to the transportation community and is authorized in BTS' authorizing statute (49 U.S.C. 6302). To that end, BTS has entered into an IAA with BSEE to establish and operate a voluntary, confidential near miss data collection program. In 2013, the National Commission on the BP Deepwater Horizon Oil Spill recommended, among other things, that BSEE develop a system for reporting near miss events in oil and gas operations on the OCS. BSEE evaluated various near miss reporting systems that have proven successful in improving safety in major industries (such as commercial airlines, railroads, and firefighting programs) and identified BTS as an agency with experience in developing and operating such systems to improve safety.

It is estimated that the time for an individual respondent to complete a near miss report and, if needed, participate in a brief confidential interview will be no more than 60 minutes for a maximum total burden of 730 hours (730 reports*60 minutes/60 = 720 hours). Reports may be voluntarily submitted to BTS when there is a qualifying event, i.e., when a near miss occurs in oil and gas operations on the OCS. Potential respondents include employees of OCS oil and gas lessees and operators and their contractors. It should be noted that not all of the potential respondents will submit information at any given time and some may submit multiple times.

II. Background

Under the Outer Continental Shelf Lands Act (OCSLA), 43 U.S.C. 1331-1356a, the Secretary of the Interior (the Secretary) is authorized to regulate oil and natural gas exploration, development, and production operations on the OCS. The Secretary has assigned BSEE the responsibility for offshore safety and environmental enforcement under OCSLA (see 76 FR 64432, Oct. 18, 2011). The BSEE promotes safety, protects the environment, and conserves offshore oil and gas resources through regulatory oversight and enforcement, research activities, public outreach, information sharing, and appropriate cooperation with industry and other OCS stakeholders. BSEE's goals include building and maintaining a culture of safety and risk reduction on the OCS.

In 2013, the National Commission on the BP Deepwater Horizon Oil Spill recommended, among other things, that BSEE develop a system for near miss reporting for oil and gas operations on the OCS. BSEE has decided to implement that recommendation through a system of voluntary reporting of near miss information. BSEE has also decided to encourage participation in that system by ensuring the confidentiality of such reports, including the reporter's identities (if provided) and other identifying information.

BSEE evaluated various near miss reporting systems that have proven successful in improving safety in major industries (such as commercial airlines, railroads, and firefighting programs) and identified BTS as an agency with experience in developing and operating such systems, on a confidential basis, to improve safety. In August 2013, BSEE and BTS signed an IAA to develop and implement a voluntary program for confidential reporting of `near misses' occurring on the Outer Continental Shelf (OCS).

The goal of the voluntary near miss reporting system is to provide BTS with essential information about accident precursors and other hazards associated with OCS oil and gas operations. BTS will develop and publish aggregate reports that BSEE, the industry and all OCS stakeholders can use—in conjunction with incident reports and other sources of information—to reduce safety and environmental risks and continue building a more robust OCS safety culture.

A near miss is an event and/or condition that could have resulted in loss, or had the potential for additional safety, environmental or other consequences, but did not result in an adverse event. This adverse event was prevented only by a fortuitous break in the chain of events and/or conditions. The potential loss could be human injury, environmental damage, or negative business impact. Knowledge about a near miss presents an opportunity to address unsafe work conditions, prevent accidents, and improve safety and environmental protection in the workplace. Near miss systems in other industry sectors have shown that voluntary reporting of near misses to a confidential system can become a tool to identify safety issues and help prevent accidents by providing a cooperative, non-punitive environment to communicate safety concerns.

BTS will: Collect near miss reports voluntarily submitted by employees and other respondents working on the OCS; conduct follow-up interviews as needed, develop an analytical database using the reported data and other pertinent information; conduct statistical analyses and develop public reports; and protect the confidentiality of the near miss reports in accordance with BTS' own statute and CIPSEA. Accordingly, only statistical and non-sensitive information will be made available through BTS' publications and reports. Those publications and reports will potentially provide the industry, BSEE, other OCS stakeholders, and the public with valuable information regarding precursors to safety risks and contribute to research and development of intervention programs aimed at preventing accidents and fatalities in the OCS.

Respondents who report a near miss event will be asked to fill out a report and participate in a brief, confidential interview for further clarification, as needed. Respondents will have the option to mail or submit the report electronically to BTS. Respondents will be asked to provide information such as: (1) Name and contact information (optional); (2) time and location of the event; (3) a short description of the event; (4) contributing factors to the reported near miss; and (5) any other information that might be useful in determining a root cause of such event.

Some of the information collected through this voluntary initiative will also help inform the continuing effort to work with oil and gas companies and other entities that already collect offshore near miss data.

III. Request for Public Comment

BTS requests comments on any aspects of this information collection request, including: (1) The accuracy of the estimated burden of 730 hours detailed in Section I; (2) ways to enhance the quality, usefulness, and clarity of the collected information; and (3) ways to minimize the collection burden without reducing the quality of the information collected, including additional use of automated collection techniques or other forms of information technology.

Patricia Hu,
Director, Bureau of Transportation Statistics, Office of the Assistant Secretary for Research and Technology.

[FR Doc. 2014-15455 Filed 7-1-14; 8:45 am]

BILLING CODE 4910-9X-P